DEPARTMENT OF HOMELAND SECURITY

Federal Emergency Management Agency

[Docket ID: FEMA-2021-0025; OMB No. 1660-0138]

Agency Information Collection Activities: Proposed Collection; Comment Request; Direct Housing Assistance Forms

AGENCY: Federal Emergency Management Agency, Department of Homeland Security.

ACTION: 30-Day notice of revision and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) cost, and the actual data collection instruments FEMA will use.

DATES: Comments must be submitted on or before January 31, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to the Director, Information Management Division, 500 C St. SW, Washington, DC 20472, FEMA-Information-Collections-Management@fema.dhs.gov or Brian Thompson, Supervisory Program Specialist, FEMA, Recovery Directorate, 540-686-3602, Brian.Thompson6@fema.dhs.gov.

SUPPLEMENTARY INFORMATION: The Robert T. Stafford Disaster Relief and Emergency Assistance Act, 42 U.S.C. 5174, as amended by the Disaster Mitigation Act of 2000 (Pub. L. 106-390), authorizes the President to provide temporary housing units, including manufactured housing units, recreational vehicles or other readily fabricated dwellings and leased multi-family housing units and residential properties to eligible applicants who, as a direct result of a major disaster or emergency, are unable to occupy their primary residence or obtain adequate alternate housing, and therefore require temporary housing. Requirements for disaster-related housing needs of individuals and households who are eligible for temporary housing assistance may be found in title 44 CFR 206.117—Housing Assistance. The information collected is used to determine the feasibility of a potential site for placement of temporary housing units (THUs) to ensure the THUs are ready for applicant occupancy, and to confirm applicant understanding of the requirements of occupancy of the THUs. The information will also provide FEMA with access to place the THUs, to document the installation and maintenance of the THUs, and to retrieve the THUs at the end of their use.

This proposed information collection was previously published in the Federal Register on October 13, 2021, at 86 FR 56979 with a 60-day public comment period. No comments were received. The purpose of this notice is to notify the public that FEMA will submit the information collection abstracted below to the Office of Management and Budget for review and clearance.

Collection of Information

Title: Direct Housing Assistance Forms.

Type of Information Collection: Revision of a currently approved information collection.

OMB Number: 1660-0138.

FEMA Forms: FEMA Form FF-104-FY-21-191 (English) (formerly 009-0-129), Transportable Temporary Housing Unit Ready for Occupancy Status; FF-104-FY-21-192 (English) (formerly 009-0-131), Sales Calculation Worksheet; FF-104-FY-21-193 (English) (formerly 009-0-134), Direct Temporary Housing Assistance Recertification Worksheet; FF-104-FY-21-194 (English) (formerly 009-0-135), Direct Temporary Housing Assistance Temporary Housing Agreement; FF-104-FY-21-195 (English) (formerly 009-0-137), Commercial Park Unit Pad Requirements—Information Checklist; FEMA Form FF-104-FY-21-109 (English) (formerly 010-0-9), Transportable Temporary Housing Unit Request for the Site Inspection; FEMA Form FF-104-FY-21-110 (formerly 010-0-10), Transportable Temporary Housing Unit Landowner's Authorization Ingress-Egress Agreement; FEMA Form FF-104-FY-21-110-A (English/Spanish) (formerly 010-0-10S), Autorización del Propietario/Acuerdo de Entrada y Salida; FF-104-FY-21-111 (English) (formerly 009-0-138), Transportable Temporary Housing Unit Inspection Report; FF-104-FY-21-112 (English) (formerly 009-0-136), Transportable Temporary Housing Unit Installation Work Order; FF-104-FY-21-113 (English) (formerly 009-0-130), Transportable Temporary Housing Unit Maintenance Work Order.

Abstract: The information collected is used to determine the feasibility of a potential site for placement of temporary housing units (THUs) to ensure the THUs are ready for applicant occupancy, and to confirm applicant understanding of the requirements of occupancy of the THUs. The information will also provide FEMA with access to place the THUs, to document the installation and maintenance of the THUs, and to retrieve the THUs at the end of their use.

Affected Public: Individuals or households, business or other for-profit.

Estimated Number of Respondents: 50,000.

Estimated Number of Responses: 50,000.

Estimated Total Annual Burden Hours: 12,088.

Estimated Total Annual Respondent Cost: $559,509.

Estimated Respondents' Operation and Maintenance Costs: $0.

Estimated Respondents' Capital and Start-Up Costs: $0.

Estimated Total Annual Cost to the Federal Government: $10,578,900.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent L. Brown,
Acting Branch Chief, Records Management Branch, Office of the Chief Administrative Officer, Mission Support, Federal Emergency Management Agency, Department of Homeland Security.

[FR Doc. 2021-28346 Filed 12-29-21; 8:45 am]

BILLING CODE 9111-23-P